DEPARTMENT OF COMMERCE

International Trade Administration

North American Free Trade Agreement, Article 1904; NAFTA Panel Reviews; Notice of Panel Decision

AGENCY: NAFTA Secretariat, United States Section, International Trade Administration, Department of Commerce.

ACTION: Notice of panel decision.

SUMMARY: On August 13, 2003, the binational panel issued its decision in the review of the final results of the countervailing duty determination made by the International Trade Administration (ITA) respecting Certain Softwood Lumber Products from Canada (Secretariat File No. USA-CDA-2002-1904-03) affirmed in part and remanded in part the determination of the Department of Commerce. The Department will return the determination on remand no later than October 14, 2003. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

Panel Decision: On August 13, 2003, the Binational Panel affirmed in part and remanded in part the Department of Commerce's final antidumping duty determination. The following issues were remanded to the Department:

1. To determine the adequacy of remuneration, and therefore benefit, based upon cross-border benchmarks. To make a new determination as to whether there is a benefit using a standard other than cross-border benchmarks.

2. To reconsider the matter of excluding reprocessed Maritimes-origin lumber in light of the Panel's opinion.

3. The Panel vacates the Department's rejection of an exclusion for used railroad ties and remands for reconsideration in light of the Panel's opinion.

4. Commerce failed to properly apply its own “input source” criterion by failing to grant applications submitted by all companies that relied on the source of their lumber as a basis for exclusion. The Panel remanded this issue to Commerce for consideration of those additional companies whose applications were based on input source.

5. The Panel remands the issue of the inclusion of residual products in the denominator of the subsidy calculation to the Department for further consideration.

Commerce was directed to issue it's determination on remand within 60 days of the issuance of the decision or not later than October 14, 2003.

Dated: August 14, 2003.
Caratina L. Alston,
United States Secretary, NAFTA Secretariat.

[FR Doc. 03-21250 Filed 8-19-03; 8:45 am]

BILLING CODE 3510-GT-P